DEPARTMENT OF HEALTH AND HUMAN SERVICES

Centers for Medicare & Medicaid Services

Statement of Organization, Functions, and Delegations of Authority

Part F of the Statement of Organization, Functions, and Delegations of Authority for the Department of Health and Human Services, Centers for Medicare & Medicaid Services (CMS), (last amended at 75 FR 14176-14178, dated March 24, 2010) is amended to reflect the establishment of a new Center for Medicare and Medicaid Innovation and to update the organization for CMS, as follows:

(1.) Under Part F, CMS, FC. 10 Organizations, insert the following new Center between the Center for Medicare (FCH) and the Center for Medicaid, CHIP and Survey & Certification (FCJ): “Center for Medicare and Medicaid Innovation (FCP).”

(2.) Under Part F, CMS, FC. 20 Functions, insert the following after the description of the Center for Medicare (FCH):

Center for Medicare and Medicaid Innovation (FCP)

• Identifies, validates and disseminates information about new care models and payment approaches to serve Medicare and Medicaid beneficiaries seeking to enhance the quality of health and health care and reducing cost through improvement.

• Consults with representatives of relevant Federal agencies, and clinical and analytical experts with expertise in medicine and health care management, including providers, payers, states, businesses, and community agencies, to develop new and effective models of care.

• Creates and tests new models in clinical care, integrated care and community health, and disseminates information on these models through CMS, HHS, states, local organizations, and industry channels.

• Performs rapid cycle evaluation of innovation and demonstration activities to determine effectiveness and feasibility for broader dissemination, scale, and sustainability.

• Works closely with other CMS components and regional offices to study health care industry trends and data for the purposes of designing, implementing, and evaluating innovative payment and service delivery models, and to disseminate information about effective models.

• Creates and tests innovative payment and service delivery models, building collaborative learning networks to facilitate the collection and analysis of innovation, as well as the implementation of effective practices, and developing necessary technology to support this activity.

• Creates and tests innovative payment and service delivery models, developing fellows with expertise in innovation, demonstration and diffusion to help support the introduction of effective practices across the nation.

• Carries out core business functions (e.g., budget, facilities, HR, communications).

(Authority: 44 U.S.C. 3101)

Dated: November 12, 2010.
Kathleen Sebelius,
Secretary.

[FR Doc. 2010-28940 Filed 11-16-10; 8:45 am]

BILLING CODE 4120-01-P